DEPARTMENT OF COMMERCE

National Oceanic and Atmospheric Administration

50 CFR Part 660

[Docket No. 050801212-5212-01; I.D. 072805A]

RIN 0648-AT52

Fisheries off West Coast States and in the Western Pacific; Western Pacific Pelagic Fisheries; Control Date for Non-Longline Commercial Pelagic Fisheries in EEZ around Hawaii

AGENCY: National Marine Fisheries Service (NMFS), National Oceanic and Atmospheric Administration (NOAA), Commerce.

ACTION: Proposed rule; advance notice of proposed rulemaking; notification of control date.

SUMMARY: NMFS announces that persons who enter the non-longline commercial pelagic fisheries (e.g., troll, handline, pole and line, etc.) in the U.S. exclusive economic zone (EEZ) around the Hawaiian Islands after June 2, 2005 (“control date”) are not guaranteed future participation in the fishery if the Western Pacific Fishery Management Council (WPFMC) recommends, and NMFS approves, a program limiting entry or effort. This action does not commit the WPFMC or NMFS to limit entry, or prevent any other date from being selected for eligibility to participate in the non-longline commercial pelagic fisheries. The WPFMC or NMFS may also use other criteria to limit fishing effort or participation in a limited entry program that is developed in the future.

DATES: Comments must be submitted in writing by October 14, 2005.

ADDRESSES: You may submit comments on this document identified by I.D. 072805A by any of the following methods:

• E-mail: AT52-HawaiiDate@noaa.gov. Include I.D. 072805A in the subject line of the e-mail comment following document identifier: Hawaii non-longline control date. Comments sent via e-mail, including all attachments, must not exceed a 10 megabyte file size.

• Federal e-Rulemaking portal: www.regulations.gov. Follow the instructions for submitting comments.

• Mail: William L. Robinson, Administrator, NMFS Pacific Islands Region (PIR), 1601 Kapiolani Blvd., Suite 1110, Honolulu, HI 96814.

• Fax: 808-973-2941

FOR FURTHER INFORMATION CONTACT: Robert Harman, NMFS PIR, at 808-944-2271.

SUPPLEMENTARY INFORMATION: On June 2, 2005, at its 127th meeting, the WPFMC recommended a “control date” of June 2, 2005, applicable to persons who are contemplating entering the non-longline commercial fisheries for pelagic species (i.e., troll, handline, pole and line, other) in the U.S. exclusive economic zone (EEZ) around Hawaii. The WPFMC requested that this control date be published in the Federal Register to notify fishermen that if they enter these fisheries after June 2, 2005, they may not be assured of future access if the WPFMC and/or NMFS decide to limit entry or impose other measures to manage these fisheries.

Establishment of a control date responds to NMFS' notice to the WPFMC, dated December 30, 2004 (69 FR 78397), that overfishing is occurring Pacific-wide on bigeye tuna, and that management action must be taken by the WPFMC to end this overfishing. The WPFMC tentatively has determined that a limited access program in the U.S. EEZ around Hawaii might be one of the viable mechanisms to reduce fishing mortality in Pacific bigeye tuna, as a step toward ending overfishing in the pelagic fisheries.

The State of Hawaii maintains a registry of commercial pelagic fishermen, as required by state regulations. In 2003, some 2,037 people were registered as commercial pelagic fishermen. Of these, 1,681 (83 percent) were non-longline fishermen. Most of these non-longline pelagic fishermen were active in the EEZ and, thus, represent an estimate of fishermen who could be affected by this control date. Based on the state's 2003 commercial fishing data reported by fishermen, the total catch of pelagic species in Hawaii was 22.6 million lb (10,251 mt), of which 5.2 million lb (2,359 mt)(23 percent) was made by non-longline small-boat pelagic methods. The entire pelagic fishery landed fish with an ex-vessel value of $47.9 million, of which about $9.3 million (19.4 percent) were from non-longline methods.

Control dates are intended to discourage speculative entry into fisheries, as new entrants entering the fishery after the control date are forewarned that they are not guaranteed future participation in the fishery.

Establishment of this control date does not commit the WPFMC or NMFS to any particular management regime or criteria for entry into the non-longline commercial pelagic fisheries. Fishermen are not guaranteed future participation in this fishery, regardless of their level of participation before or after the control date. The WPFMC may recommend a different control date or it may choose a management regime that does not involve a control date. Other criteria, such as documentation of commercial landings and sales, may be used to determine eligibility for participation in a limited access fishery. The WPFMC and/or NMFS also may choose to take no further action to control entry or access to the fishery, in which case the control date may be rescinded.

Classification

This advance notice of proposed rulemaking has been determined to be not significant for the purposes of Executive Order 12866.

Authority: 16 U.S.C. 1801 et seq.

Dated: August 10, 2005.
James W. Balsiger,
Acting Deputy Assistant Administrator for Regulatory Programs, National Marine Fisheries Service.

[FR Doc. 05-16121 Filed 8-12-05; 8:45 am]

BILLING CODE 3510-22-S